DEPARTMENT OF COMMERCE

National Oceanic and Atmospheric Administration

[RTID 0648-XC400]

Permits; Foreign Fishing

AGENCY: National Marine Fisheries Service (NMFS), National Oceanic and Atmospheric Administration (NOAA), Commerce.

ACTION: Notice of application for transshipment permit; request for comments.

SUMMARY: NMFS publishes for public review and comment information regarding a permit application for transshipment of farmed salmon from aquaculture operations in Maine waters to processing plants in Canada by Canadian flagged vessels. The application for a transshipment permit is submitted under provisions of the Magnuson-Stevens Fishery Conservation and Management Act (Magnuson-Stevens Act). This action is necessary for NMFS to make a determination that the permit application can be approved.

DATES: Written comments must be received by December 13, 2022.

ADDRESSES: Written comments on this action, identified by RTID 0648-XC400 should be sent to Kent Laborde and Jasmine Prat in the NMFS Office of International Affairs, Trade, and Commerce by email at kent.laborde@noaa.gov and jasmine.prat@noaa.gov.

FOR FURTHER INFORMATION CONTACT: Kent Laborde and Jasmine Prat by email at kent.laborde@noaa.gov and jasmine.prat@noaa.gov, or by phone at 301-427-8364.

SUPPLEMENTARY INFORMATION:

Background

Section 204(d) of the Magnuson-Stevens Act (16 U.S.C. 1824(d)) authorizes the Secretary of Commerce (Secretary) to issue a transshipment permit for a vessel other than a vessel of the United States to engage in fishing consisting solely of transporting fish or fish products at sea from a point within the United States Exclusive Economic Zone (EEZ) or, with the concurrence of a state, within the boundaries of that state, to a point outside the United States.

Section 204(d)(3)(D) of the Magnuson-Stevens Act provides that an application to transship from U.S. waters to another country using non-U.S. vessels may not be approved until the Secretary determines that “no owner or operator of a vessel of the United States which has adequate capacity to perform the transportation for which the application is submitted has indicated . . . an interest in performing the transportation at fair and reasonable rates.” NMFS is publishing this notice as part of its effort to make such a determination with respect to the application described below.

Summary of Application

NMFS received an application from True North Salmon Limited Partnership, Kelly Cove Salmon Limited, and 697002 NB, Inc., requesting authorization to transfer salmon from U.S. farm pens in Maine waters to five Canadian vessels for the purpose of transporting the salmon to Black's Harbour, Canada for processing. The transshipment operations will occur within the boundaries of the State of Maine, and within 12 nautical miles from Maine's seaward boundary. NMFS issued permits for the same vessels for use in calendar year 2022. Those permits will expire December 31, 2022.

Dated: November 21, 2022.
Michael T. Brakke,
Acting Director, Office of International Affairs, Trade, and Commerce, National Marine Fisheries Service.

[FR Doc. 2022-25955 Filed 11-28-22; 8:45 am]

BILLING CODE 3510-22-P